DEPARTMENT OF ENERGY

Federal Energy Regulatory Commission

[Docket No. CP04-334-000]

CenterPoint Energy—Mississippi River Transmission Corp.; Notice of Intent To Prepare an Environmental Assessment for the Proposed Abandonment of the Mrt Main Line No. 1 Pipeline and Request for Comments on Environmental Issues

June 30, 2004.

The staff of the Federal Energy Regulatory Commission (FERC or Commission) will prepare an environmental assessment (EA) that will discuss the environmental impacts of the proposed abandonment by CenterPoint Energy—Mississippi River Transmission Corp. (MRT) of 307 miles of 22-inch-diameter pipeline, and 2 associated compressor stations. The facilities which would be abandoned consist of the MRT Main Line No. 1 running from Perryville, Louisiana, across the state of Arkansas to Poplar Bluffs, Missouri.¹ This EA will be used by the Commission in its decision-making process to determine whether the project is in the public convenience and necessity.

¹ MRT's application was filed with the Commission under Section 7(b) of the Natural Gas Act and Part 157 of the Commission(s regulations.

A fact sheet prepared by the FERC entitled “An Interstate Natural Gas Facility On My Land? What Do I Need To Know?” was attached to the project notice MRT provided to landowners. This fact sheet addresses a number of typically asked questions, including the use of eminent domain and how to participate in the Commission's proceedings. It is available for viewing on the FERC Internet Web site (http://www.ferc.gov).

Summary of the Proposed Project

MRT seeks authority to abandon approximately of 307 miles of pipeline of which about 277.5 miles would be abandoned in place. MRT would abandon by sale 18.3 miles of pipeline running from its Glendale Compressor Station to the town of Pine Bluff, Arkansas. The 18.3-mile segment of pipe would be sold to CenterPoint Energy Gas Transmission Company which would continue service to the town of Pine Bluff.

MRT states that it contacted all landowners along its Main Line No. 1 and received a number of requests that the abandoned pipe be removed. Segments planned for removal at landowner request currently total 11.2 miles.

Mainline No. 1 shares an easement with MRT's Mainlines No. 2 and 3 (which will remain in service). MRT would retain its current pipeline easement.

MRT also proposes to abandon 2 obsolete compressor stations, the Diaz and Sherrill Compressor Stations in (respectively) Jackson and Jefferson Counties, Arkansas. All buildings and structures would be removed except for two small communications sheds at the Diaz facility.

Above ground appurtenant facilities which would be removed include valves and vents at 78 sites, crossover pipes at 23 sites, and a back up interconnection to Natural Gas Pipeline Company of America.

The general location of the project facilities is shown in appendix 1.²

² The appendices referenced in this notice are not being printed in the Federal Register. Copies of all appendices, other than appendix 1 (maps), are available on the Commission's website at the “eLibrary” link or from the Commission(s Public Reference and Files Maintenance Branch, 888 First Street, NE., Washington, DC 20426, or call (202) 502-8371. For instructions on connecting to eLibrary refer to the last page of this notice. Copies of the appendices were sent to all those receiving this notice in the mail.

Land Requirements for Abandonment

The Main Line No. 1 abandonment would require excavation at 167 work areas (including the compressor stations). MRT's work would disturb 306.5 acres within MRT's existing ROW and facility yards. MRT would retain the Main Line No. 1 easement after the Main Line No. 1 pipeline is abandoned. MRT would use existing access roads and plans no new or permanently improved roads.

The EA Process

The National Environmental Policy Act (NEPA) requires the Commission to take into account the environmental impacts that could result from an action whenever it considers the issuance of a Certificate of Public Convenience and Necessity. NEPA also requires us³ to discover and address concerns the public may have about proposals. This process is referred to as “scoping”. The main goal of the scoping process is to focus the analysis in the EA on the important environmental issues. By this Notice of Intent, the Commission staff requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction activities associated with the removal of the pipeline under these general headings:

• Geology and soils.

• Land use.

• Water resources, fisheries, and wetlands.

• Cultural resources.

• Vegetation and wildlife.

• Air quality and noise.

Our independent analysis of the issues will be in the EA. Depending on the comments received during the scoping process, the EA may be published and mailed to Federal, state, and local agencies, public interest groups, interested individuals, affected landowners, newspapers, libraries, and the Commission(s official service list for this proceeding. A comment period will be allotted for review if the EA is published. We will consider all comments on the EA before we make our recommendations to the Commission.

To ensure your comments are considered, please carefully follow the instructions in the public participation section.

Currently Identified Environmental Issues

The Bald Knob National Wildlife Refuge and Missouri's Sand Pond Conservation Area are crossed by Main Line No. 1 and the pipeline is within a quarter mile of Arkansas' Stateline Sandponds Natural Area. MRT is coordinating its proposed abandonment action with the appropriate wildlife area managers.

The project would cross or is within a quarter mile of three designated natural or scenic areas: Bayou Bartholomew (Louisiana Natural Scenic River); Trail of Tears National Historic Trail (in Arkansas); and the Black River (Arkansas Natural and Scenic River).

Twelve single family residences and a motel are located within 50 feet of Mainline No. 1.

Public Participation

You can make a difference by providing us with your specific comments or concerns about the project. By becoming a commenter, your concerns will be addressed in the EA and considered by the Commission. You should focus on the potential environmental effects of the proposal, alternatives to the proposal, and measures to avoid or lessen environmental impact. The more specific your comments, the more useful they will be. Please carefully follow these instructions to ensure that your comments are received in time and properly recorded:

• Send an original and two copies of your letter to: Magalie R. Salas, Secretary, Federal Energy Regulatory Commission, 888 First St., N.E., Room 1A, Washington, DC 20426.

• Label one copy of the comments for the attention of Gas Branch 2.

• Reference Docket No. CP04-334-000.

• Mail your comments so that they will be received in Washington, DC on or before July 30, 2004.

Please note that we are continuing to experience delays in mail deliveries from the U.S. Postal Service. As a result, we will include all comments that we receive within a reasonable time frame in our environmental analysis of this project. However, the Commission strongly encourages electronic filing of any comments or interventions or protests to this proceeding. See 18 CFR 385.2001(a) (1) (iii) and the instructions on the Commission's Web site at http://www.ferc.gov under the “e-Filing” link and the link to the User's Guide. Before you can file comments you will need to create a free account which can be created on-line.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its paper filings to the Secretary of the Commission and must send a copy of its filings to all other parties on the Commission's service list for this proceeding. If you want to become an intervenor you must file a motion to intervene according to Rule 214 of the Commission(s Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners whose property may be used temporarily for project purposes, or who own homes within distances defined in the Commission's regulations of certain aboveground facilities. By this notice we are also asking governmental agencies, especially those in appendix 3, to express their interest in becoming cooperating agencies for the preparation of the EA.

Additional Information

Additional information about the project is available from the Commission's Office of External Affairs, at 1-866-208-FERC on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

FR Doc. E4-1490 Filed 7-7-04; 8:45 am]

BILLING CODE 6717-01-P